INTERNATIONAL TRADE COMMISSION

[USITC SE-19-043]

Sunshine Act Meetings

Agency Holding the Meeting: United States International Trade Commission.

TIME AND DATE: November 22, 2019 at 11:00 a.m.

PLACE: Room 101, 500 E Street SW, Washington, DC 20436, Telephone: (202) 205-2000.

STATUS: Open to the public.

MATTERS TO BE CONSIDERED:

1. Agendas for future meetings: None.

2. Minutes.

3. Ratification List.

4. Vote on Inv. Nos. 701-TA-610 and 731-TA-1425-1426 (Final) (Refillable Stainless Steel Kegs from China and Germany). The Commission is currently scheduled to complete and file its determinations and views of the Commission by December 9, 2019.

5. Vote on Inv. No. 731-TA-747 (Final) (Fresh Tomatoes from Mexico). The Commission is currently scheduled to complete and file its determination and views of the Commission by December 9, 2019.

6. Outstanding action jackets: None.

The Commission is holding the meeting under the Government in the Sunshine Act, 5 U.S.C. 552(b). In accordance with Commission policy, subject matter listed above, not disposed of at the scheduled meeting, may be carried over to the agenda of the following meeting.

By order of the Commission.
Issued: November 8, 2019.
William Bishop,
Supervisory Hearings and Information Officer.

[FR Doc. 2019-24783 Filed 11-12-19; 11:15 am]

BILLING CODE 7020-02-P